DEPARTMENT OF JUSTICE

Immigration and Naturalization Service

[INS No. 2065R-00]

RIN 1115-AE26

Extension of Re-registration Period and Work Authorization for Hondurans Under Temporary Protected Status Program

AGENCY: Immigration and Naturalization Service, Justice.

ACTION: Notice.

SUMMARY: This notice extends the re-registration period until July 5, 2000 for those eligible nationals of Honduras (or aliens having no nationality who last habitually resided in Honduras) who may re-register for Temporary Protected Status (TPS) and apply for a new period of employment authorization. On May 11, 2000, through a notice in the Federal Register at 65 FR 30438, the Attorney General extended the TPS designation of Honduras for an additional 12-month period, until July 5, 2001. The May 11, 2000 Federal Register notice also set the end of the filing period for re-registration at June 12, 2000, which is now being changed to July 5, 2000.

¹ To the extent that the release of alcohol and drug abuse records is more restricted than other records subject to the Privacy Act, DOJ will follow such restrictions. See 42 U.S.C. 290dd-2; 42 CFR part 2.

In addition to extending the re-registration period, this notice extends until December 5, 2000 the validity of Employment Authorization Documents (EADs) that were issued to Honduran nationals (or aliens having no nationality who last habitually resided in Honduras) under the initial TPS designation and that are set to expire on July 5, 2000. To be eligible for this automatic extension of employment authorization, an individual must be a national of Honduras (or an alien having no nationality who last habitually resided in Honduras) who previously applied for and received an EAD under the initial January 5, 1999 designation of Honduras for TPS. This automatic extension is limited to EADs bearing an expiration date of July 5, 2000 and the notation:

• “A-12” or “C-19” on the face of the card under “Category” for EADs issued on Form I-766; or,

• “274A.12(A)(12)” or “274A.12(C)(19)” on the face of the card under “Provision of Law” for EADs issued on Form I-688B.

EFFECTIVE DATES: The extension of the TPS designation for Honduras is effective July 6, 2000, and will remain in effect until July 5, 2001. The re-registration period began May 11, 2000 and will remain in effect until July 5, 2000. All EADs that were issued to Honduran nationals (or aliens having no nationality who last habitually resided in Honduras) under the initial Honduras TPS designation and that are set to expire on July 5, 2000 are automatically extended until December 5, 2000.

FOR FURTHER INFORMATION CONTACT: Michael Hardin, Office of Adjudications, Immigration and Naturalization Service, Room 3214, 425 I Street, NW., Washington, DC 20536, telephone (202) 514-4754.

SUPPLEMENTARY INFORMATION:

Why Did the Immigration and Naturalization Service Decide To Extend the Re-registration Period for Hondurans Filing for an Extension of Temporary Protected Status?

The extreme devastation of Hurricane Mitch prompted the Attorney General to make an unprecedented original 18-month designation under TPS for Honduras. Typically, TPS designations are for 12 months, which is also the time period after which TPS applicants must annually register with the Immigration and Naturalization Service (Service). 8 U.S.C. 1254a(c)(3)(C). This annual registration must take place within 30 days of the anniversary of the initial grant of Temporary Protected Status. 8 CFR 244.17.

The initial 18-month grant of TPS status to Honduras, combined with EADs issued under TPS designations for Honduras stating July 5, 2000 as their expiration date, has caused confusion is to when a Honduran TPS applicant is required to file for a TPS extension. Because of this, the Service is extending the dates for re-registration by this Notice until the last day of the initial Honduras TPS designation, July 5, 200.

When Can I Register for an Extension of TPS?

The re-registration period begins May 11, 2000 and will remain in effect until July 5, 2000. Applications must be physically received, not just postmarked, at the appropriate Service Center by July 5, 2000. For further filing instructions, see the previous notice in the May 11, 2000 Federal Register.

What Forms Must I Send in Order To Register for an Extension of TPS?

As stated previously, in the May 11, 2000, Federal Register notice, in order to re-register under the TPS program, you must file your TPS application, Form I-821 (without fee) and an application for employment authorization, Form I-765. If you want an EAD, you must submit a fee of $100. If you are not requesting employment authorization, you do not need to submit a fee. Both forms I-821 and I-765 must be received by the appropriate Service Center by July 5, 2000.

Why Is the Service Automatically Extending the Expiration Date of EADs From July 5, 2000 to December 5, 2000?

As stated above, qualified individuals must apply for a new EAD in order to register for and extension of TPS. Conserving both the number of applications that the Service anticipates it will receive and Service processing capabilities given the short timeframe provided by statute for the decision to extend the Attorney General's designation of Honduras under the TPS program, it is likely that many re-registrants will receive their new EAD after the expiration date of their current EAD. Unless an extension on the expiration date of their EAD is provided, re-registrants may experience a gap in employment authorization. Therefore, to afford the Service sufficient processing time and to ensure that re-registrants will be able to maintain their employment authorization until they receive a new EAD in connection with their re-registration for the new period of TPS, the Service, through this notice, is extending the validity of applicable EADs to December 5, 2000.

Who Is Eligible To Receive an Automatic Extension of Employment Authorization?

To be eligible for an automatic extension of employment authorization, an individual must be a national of Honduras (or an alien having no nationality who last habitually resided in Honduras) who previously applied for and received and EAD under the initial January 5, 1999 designation of Honduras for TPS. This automatic extension is limited to EADs bearing an expiration date of July 5, 2000 and the notation:

• “A-12 or “C-19” on the face of the card under “Category” for EADs issued on Form I-766; or,

• “274A.12(A)(12)” or “274A.12(C)(19)” on the face of the card under “Provision of Law” for EADs issued on Form I-688B.

Does a Qualified Individual Have To Apply to the Service for the Automatic Extension to December 5, 2000 of His or Her TPS-related EAD?

No, the extension of the validity of the previously issued EADs to December 5, 2000 is automatic and there is no fee. However, as discussed below, qualified individuals are encouraged to retain a copy of this Federal Register notice for purposes of the employment verification process. Also, qualified individuals must re-register by July 5, 2000 in order to be eligible for a new EAD that is valid until July 5, 2001.

What Documents Can a Qualified Individual Show to His or Her Employer as Proof of Employment Authorization and Identity When Completing the Employment Eligibility Verification Form (Form I-9)?

For completion of the Form I-9 at the time of hire or reverification, qualified individuals who have received an extension of employment authorization by virtue of their Federal Register notice can present their employer their TPS-related EAD as proof of valid employment authorization and identity until December 5, 2000. To minimize confusion over this extension at the time of hire or re-verification, qualified individuals may also present to their employer a copy of this Federal Register notice regarding the extension of employment authorization to December 5, 2000. In the alternative to presenting a TPS-related EAD, any legally acceptable document or combination of documents listed in List A, List B, or List C of the Form I-9 may be presented as proof of identity and employment eligibility; it is the choice of the employee.

How Can Employers Determine Which EADs That Have Been Automatically Extended Through December 5, 2000, Are Acceptable for Completion of the Form I-9?

For purposes of verifying identity and employment eligibility or re-verifying employment eligibility on the Form I-9 until December 5, 2000, employers of TPS Honduran nationals (or aliens having no nationality who last habitually resided in Honduras) whose employment authorization has been automatically extended by this notice must accept an EAD that contains an expiration date of July 5, 2000 and that bears the notation:

• “A-12” or “C-19” on the face of the card under “Category” for EADs issued on Form I-766; or,

• “274A.12(A)(12)” or “274A.12(C)(19)” on the face of the card under “Provision of Law” for EADs issued on Form I-688B.

New EADs or extension stickers showing the December 5, 2000 expiration date will not be issued. Employers should not request proof of Honduran citizenship. Employers presented with an EAD that has been extended by this Federal Register notice and that appears to be genuine and to relate to the employee should accept the document as a valid List A document and should not ask for additional I-9 documentation. This action by the Service through this Federal Register notice does not affect the right of an employee to present any legally acceptable document as proof of identity and eligibility for employment. Employers are reminded that the laws prohibiting unfair immigration-related employment practices remain in full force. Employers may call the Service's Office of Business Liaison Employer Hotline at 1-800-357-2099 to speak to a Service representative about this Notice. Employers can also call the Office of Special Counsel for Immigration Related Unfair Employment Practices (OSC) Employer Hotline at 1-800-255-8155. Employees or applicants can call the OSC Employee Hotline at 1-800-255-7688 about the automatic extension.

Doe This Notice Affect Any Other Portion of the May 11, 2000 Federal Register Notice Extending TPS Designation for Honduras Until July 5, 2001?

No. All other TPS requirements contained in the May 11, 2000, Federal Register notice at 65 FR 30438 are accurate and remain in effect.

Dated: May 25, 2000.
Doris Meissner,
Commissioner, Immigration and Naturalization Service.

[FR Doc. 00-14534 Filed 6-8-00; 8:45 am]

BILLING CODE 4410-10-M